DEPARTMENT OF DEFENSE

Office of the Secretary

[Docket ID DoD-2008-OS-0151]

Privacy Act of 1974; System of Records

AGENCY: Defense Finance and Accounting Service. DoD.

ACTION: Notice to Add a New System of Records.

SUMMARY: The Defense Finance and Accounting Service (DFAS) is proposing to add a system of records notice to its inventory of record systems subject to the Privacy Act of 1974 (5 U.S.C. 552a), as amended.

DATES: This action will be effective without further notice on January 2, 2009 unless comments are received that would result in a contrary determination.

ADDRESSES: Send comments to the FOIA/PA Program Manager, Corporate Communications and Legislative Liaison, Defense Finance and Accounting Service, 8899 E. 56th Street, Indianapolis, IN 46249-0002.

FOR FURTHER INFORMATION CONTACT: Ms. Linda Krabbenhoft at (303) 589-3510.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on November 19, 2008, to the House Committee on Government Reform, the Senate Committee on Governmental Affairs, and the Office of Management and Budget (OMB) pursuant to paragraph 4c of Appendix I to OMB Circular No. A-130, “Federal Agency Responsibilities for Maintaining Records About Individuals,” dated December 12, 2000, 65 FR 239.

Dated: November 25, 2008.
Morgan E. Frazier,
Alternate OSD Federal Register Liaison Officer, Department of Defense.

T-7207

System name:

General Accounting and Finance System—Defense Travel Records.

System location:

Defense Enterprise Computing Center-Ogden, 7879 Wardleigh Road, Hill AFB, UT 84056-5997.

Categories of individuals covered by the system:

United States Air Force Active Duty, Reserve and National Guard members, and DoD civilian employees that utilize the Defense Travel System.

Categories of records in the system:

Name, Social Security Number (SSN), home address and telephone number.

Authority for maintenance of the system:

5 U.S.C. 301, Departmental regulations, Department of Defense Directive 5118.5, Defense Finance and Accounting Service; 31 U.S.C. Sections 3512, and 3513, and E.O. 9397 (SSN).

Purpose(s):

To receive obligation and payment data from the Defense Travel System and used to generate transactions for the General Accounting and Finance System and the Centralized Disbursing System. In addition, it will provide acknowledgements to the Defense Travel System that transactions such as disbursements and collections have been received and processed. The data will also be used to produce management listings that will support the processing of obligations, and validate receivable and expenditure transactions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The “Blanket Routine Uses” published at the beginning of the DFAS compilation of systems of records notices apply to this system.

Storage:

Electronic storage media.

Retrievability:

Name and Social Security Number (SSN).

Safeguards:

Records are stored in an office building protected by guards, controlled screening of personnel, registering visitors and electronic access, and/or locks. Access to records is limited to individuals who are properly screened and cleared on a need to know basis in the performance of their official duties. Passwords and User IDs are used to control access to the system and procedures are in place to deter and detect browsing and unauthorized access. Physical and electronic access are limited to persons responsible for servicing and authorized to use the system.

Retention and disposal:

Records may be temporary in nature and deleted when actions are completed, superseded, obsolete, or no longer needed. Some records may be cut off at the end of the fiscal year and destroyed 3 years after cutoff. Records are destroyed by degaussing.

System manager(s) and address:

Defense Finance and Accounting Service-Denver, DTS System Managers, 6760 East Irvington Place, Denver, CO 80279-8000.

Notification procedure:

Individuals seeking to determine whether information about them are contained in this record system should address written inquiries to the Defense Finance and Accounting Service, Freedom of Information/Privacy Act Program Manager, Corporate Communications and Legislative Liaison, 8899 E. 56th Street, Indianapolis, IN 46249-0002.

Individuals should furnish full name, Social Security Number (SSN), current address, and telephone number.

Record access procedures:

Individuals seeking access to information about them contained in this system should address written inquiries to Defense Finance and Accounting Service, Freedom of Information/Privacy Act Program Manager, Corporate Communications and Legislative Liaison, 8899 E. 56th Street, Indianapolis, IN 46249-0002.

Individuals should furnish full name, Social Security Number (SSN), current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications, 8899 E. 56th Street, Indianapolis, IN 46249-0002.

Record source categories:

From the individual concerned, or the United States Air Force.

Exemptions claimed for the system:

None.

[FR Doc. E8-28596 Filed 12-1-08; 8:45 am]

BILLING CODE 5001-06-P